DEPARTMENT OF DEFENSE

Office of the Secretary

President's Information Technology Advisory Committee (PITAC)

ACTION: Notice of meeting.

SUMMARY: PITAC's Subcommittee on Computational Science will provide an update of its activities. PITAC will discuss the Subcommittee's presentation and provide guidance for use in the completion of its report on computational science. Public input will be solicited during a public comment period. A small fraction of the meeting time may be allocated for other PITAC updates at the discretion of the co-chairs and the designated Federal officer.

DATES: Thursday, November 4, 2004, 1:30-3:30 p.m. Eastern Time.

ADDRESSES: Via teleconference, the Internet, or at Noesis, Inc., 4100 North Fairfax Drive, Suite 800, Arlington, Virginia.

SUPPLEMENTARY INFORMATION: This meeting will be held primarily via a teleconference and the Internet (through the Webex application). In addition, the public is invited to participate in this meeting in-person at Noesis, Inc. in Arlington, Virginia. Detailed information about this meeting, including the agenda and details concerning registration for in-person or remote participation, will be posted at PITAC's Web site (http://www.nitrd.gov/pitac) no later than October 20th. Meeting information may also be obtained by calling 703-292-4873. Members of the public who wish to participate using the Internet (Webex) must register by Monday, November 1st.

FOR FURTHER INFORMATION CONTACT: Alan Inouye at the National Coordination Office for Information Technology Research and Development at 703-292-4873 or by email at inouye@nitrd.gov.

Dated: October 12, 2004.
L.M. Bynum,
Alternate OSD Federal Register Liaison Officer, Department of Defense.

[FR Doc. 04-23249 Filed 10-15-04; 8:45 am]

BILLING CODE 5001-6-M